DEPARTMENT OF HOUSING AND URBAN DEVELOPMENT

[Docket No. FR-5683-N-104]

30-Day Notice of Proposed Information Collection: Recordkeeping for HUD's Continuum of Care Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 27, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on March 25, 2013.

A. Overview of Information Collection

Title of Information Collection: Recordkeeping for HUD's Continuum of Care Program.

OMB Approval Number: 2506—New.

Type of Request: New collection.

Form Number: None.

Description of the need for the information and proposed use:

This submission is to request a new OMB number for the information collection for the recordkeeping requirements that Continuum of Care program recipients will be expected to implement and retain. On May 20, 2009, the President signed into law “An Act to Prevent Mortgage Foreclosures and Enhance became Public Law 111-22; Division B of this law is the HEARTH Act. As amended by the HEARTH Act, Subpart C of the McKinney-Vento Homeless Assistance Act establishes the Continuum of Care Program. The Continuum of Care Program is formed from the consolidation and amendment of three separate homeless assistance programs (The Supportive Housing Program, the Shelter Plus Care Program, and the Moderate Rehabilitation/Single Room Occupancy Program) into one single grant program. The three programs that had been carried out under title IV of the McKinney-Vento Homeless Assistance Act (42 U.S.C.11371 et seq.). The HEARTH Act was designed to improve administrative efficiency and enhance response coordination and effectiveness in addressing the needs of homeless persons through the Continuum of Care Program. The purpose of the program is to promote communitywide commitment to the goal of ending homelessness; provide funding for efforts by nonprofit providers, and State and local governments to quickly rehouse homeless individuals and families while minimizing the trauma and dislocation caused to homeless individuals, families, and communities by homelessness; promote access to and effective utilization of mainstream programs by homeless individuals and families; and optimize self-sufficiency among individuals and families experiencing homelessness. Publication of the interim rule for the Continuum of Care Program on July 31, 2012, found at 24 CFR part 578, continues HUD's implementation of the HEARTH Act. This rule establishes the regulatory framework for the Continuum of Care Program and the Continuum of Care planning process, including requirements applicable to the establishment of a Continuum of Care. A Continuum of Care is designed to address the critical problem of homelessness through a coordinated community-based process of identifying needs and building a system of housing and services to address those needs. The statutory provisions and implementing interim regulations govern the Continuum of Care Program recordkeeping requirements for recipient and subrecipients and the standard operating procedures for ensuring that Continuum of Care Program funds are used in accordance Mortgage Credit Availability,” which with the program requirements. To see the regulations for the new CoC program and applicable supplementary documents, visit HUD's Homeless Resource Exchange at https://www.onecpd.info/resource/2033/hearthcoc-program-interim-rule/.

Respondents (i.e. affected public): Continuum of Care program recipients and subrecipients.

Estimation of the Total Number of Hours Needed To Prepare the Information Collection Including Number of Respondents, Frequency of Response, and Hours of Response: The CoC record keeping requirements include 45 distinct activities. Each activity requires a different number of respondents ranging from 10 to 350,000. Each activity also has a unique frequency of response, ranging from once to 200 times annually, and a unique associated number of hours of response, ranging from 15 minutes to 180 hours. The total number of hours needed for all reporting is 1,921,711 hours.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: November 21, 2013.
Colette Pollard,
Department Reports Management Officer, Office of the Chief Information Officer.

[FR Doc. 2013-28505 Filed 11-26-13; 8:45 am]

BILLING CODE 4210-67-P